DEPARTMENT OF TRANSPORTATION

Federal Highway Administration

[Docket No. FHWA-2025-0104]

Agency Information Collection Activities: Notice of Request for Reinstatement of a Previously Approved Information Collection

AGENCY: Federal Highway Administration (FHWA), DOT.

ACTION: Notice of request for reinstatement of a previously approved information collection.

SUMMARY: The FHWA invites public comments about our intention to request the Office of Management and Budget's (OMB) approval for reinstatement of a previously approved information collection that is summarized below under SUPPLEMENTARY INFORMATION. We are required to publish this notice in the Federal Register by the Paperwork Reduction Act of 1995.

DATES: Please submit comments by October 3, 2025.

ADDRESSES: You may submit comments identified by DOT Docket ID Number 0104 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Anne Rowe, (240) 278-5394, Office of Project Development and Environmental Review, Federal Highway Administration, Department of Transportation, 1200 New Jersey Avenue SE, Washington, DC 20590. Office hours are from 7 a.m. to 4 p.m., Monday through Friday, except Federal holidays.

SUPPLEMENTARY INFORMATION:

Title: Wildlife Crossings Pilot Program.

OMB Control: 2125-0672.

Background: The Wildlife Crossings Pilot Program (WCPP) is a competitive grant program established in the Infrastructure Investment and Jobs Act of 2021 (Pub. L. 117-58, November 15, 2021), and codified at 23 U.S.C. 171. The WCPP seeks to fund projects that will reduce wildlife-vehicle collisions and improve habitat connectivity for terrestrial and aquatic species. The FHWA will advertise a Notice of Funding Opportunity for up to $80 million in fiscal year 2026 funds, plus any funds available from prior fiscal years (FY 2022-2025).

Respondents: Approximately 60 Eligible Applicants, which are State departments of transportations, Indian tribes, metropolitan planning organizations, units of local government, regional transportation authorities, special purpose districts or public authorities with a transportation function, or Federal land management agencies (FLMA). For the purpose of the grant agreement stage and project management stage, respondents may also include Eligible Partners, which are a metropolitan organization; a unit of local government; a regional transportation authority; a special purpose district or public authority with a transportation function; an Indian Tribe; an FLMA; a foundation, nongovernmental organization, or institution of higher education; or a Federal, Tribal, regional, or State government entity.

Frequency: Once.

Estimated Average Burden per Response: 17 hours.

Estimated Total Annual Burden Hours: 1,020 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: July 31, 2025.
Jazmyne Lewis,
Information Collection Officer.

[FR Doc. 2025-14728 Filed 8-1-25; 8:45 am]

BILLING CODE 4910-RY-P